DEPARTMENT OF COMMERCE

National Oceanic and Atmospheric Administration

[I.D. 011105A]

Endangered and Threatened Species; Take of Anadromous Fish

AGENCY: National Marine Fisheries Service (NMFS), National Oceanic and Atmospheric Administration (NOAA), Commerce.

ACTION: Notice of availability ; request for comment.

SUMMARY: Notice is hereby given that NMFS has received applications for direct take of listed species from the Idaho Department of Fish and Game and the Northwest Fisheries Science Center pursuant to the Endangered Species Act of 1973, as amended (ESA). The Permit applications are for the direct take of listed Snake River sockeye salmon, associated with the operation of a captive propagation program. The proposed permits will renew and replace permits 1120 and 1148. The duration of the new permits is approximately 5 years, expiring on December 31, 2009. This document serves to notify the public of the availability for comment of the permit applications and of the associated draft EA before a final decision on whether to issue a Finding of No Significant Impact is made by NMFS. All comments received will become part of the public record and will be available for review pursuant to section 10(c) of the ESA.

DATES: Written comments on the draft EA must be received at the appropriate address or fax number (see ADDRESSES) no later than 5 p.m. Pacific standard time on February 17, 2005.

ADDRESSES: Written comments and requests for copies of the applications and draft EA should be addressed to Herb Pollard, Salmon Recovery Division, 10095 W. Emerald, Boise, ID 83704, or faxed to (208) 378-5699. Comments on this draft EA may be submitted by e-mail. The mailbox address for providing e-mail comments is Sockeye.nwr@noaa.gov. Include in the subject line the following document identifier: “Sockeye captive propagation permits assessment”. The documents are also available on the Internet at www.nwr.noaa.gov/1sustfsh/10permits/. Comments received will be available for public inspection, by appointment, during normal business hours by calling (208) 378-5614.

FOR FURTHER INFORMATION CONTACT: Herb Pollard, Boise, Idaho, at phone number (208) 378-5614 or e-mail: herbert.pollard@noaa.gov.

SUPPLEMENTARY INFORMATION: This notice is relevant to the following species and evolutionarily significant unit (ESU):

Sockeye salmon (Oncorhynchus nerka): endangered Snake River.

Background

NEPA requires Federal agencies to conduct an environmental analysis of their proposed actions to determine if the actions may affect the human environment. NMFS expects to take action on two ESA section 10(a)(1)(A) submittals received from the applicants. Therefore, the Service is seeking public input on the scope of the required NEPA analysis, including the range of reasonable alternatives and associated impacts of any alternatives.

The Idaho Department of Fish and Game and the Northwest Fisheries Science Center have each submitted an application for a section 10(a)(1)(A) research/enhancement permit for continued operation of the Redfish Lake Sockeye Salmon Captive Propagation program. The two permits would authorize activities that are part of the same project.

The objectives of the proposal are to increase the abundance of the listed population through artificial propagation and to serve as a safety net to prevent extinction of the Snake River Sockeye Salmon Evolutionarily Significant Unit (ESU), which is listed as endangered under the ESA. The artificial propagation action would include maintenance of the Snake River sockeye salmon broodstock in captivity in several locations, collection and spawning of adult sockeye salmon returning to the Snake River basin, rearing of the juveniles, and use of the juvenile and adult fish in carefully designed release strategies that include captive propagation, smolt releases, and natural spawning releases. The action would include conditions to minimize adverse effects on the ESU, including use of prudent fish husbandry practices and standard hatchery protocols to ensure health and survival of the program fish, selection of eggs and juveniles in a manner designed to represent to the greatest extent possible the entire genetic spectrum of the founding population, and the conduct of spawning ground surveys to estimate natural spawning escapement and to determine the affects of captive-reared fish on spawner distribution and behavior.

Environmental Assessment (EA)

The EA package includes a draft EA evaluating whether the potential effects of issuing the new take permits is a major Federal action significantly affecting the quality of the human environment, with the meaning of section 102(2)(C) of the National Environmental Policy Act (NEPA) of 1969, as amended. Three Federal action alternatives have been analyzed in the draft EA: (1) The no action alternative; (2) issue a permit with conditions; and (3) issue a permit without conditions. NEPA requires Federal agencies to conduct an environmental analysis of their proposed action to determine if the action may affect the human environment. NMFS expects to take action on the ESA section 10(a)(1)(A) submittals received from the applicants. Therefore, NMFS is seeking public input on the scope of the required NEPA analysis, including the range of reasonable alternatives and associated impacts of any alternatives. The general effects on the environment considered include the impacts on the physical, biological, and socioeconomic environments of the Snake River Basin, particularly in the Stanley Basin lakes in which the program is located.

This notice is provided pursuant to section 10(c) of the ESA and the NEPA regulations (40 CFR 1506.6). NMFS will evaluate the applications, associated documents, and comments submitted thereon to determine whether the application meets the requirements of the NEPA regulations and section 10(a) of the ESA. If it is determined that the requirements are met, the permits will be issued for take of ESA-listed anadromous salmonids under the jurisdiction of NMFS. The final NEPA and permit determinations will not be completed until after the end of the 30-day comment period, and will fully consider all public comments received during the comment period. NMFS will publish a record of its final action in the Federal Register.

Dated: January 11, 2005.
Phil Williams,
Chief, Endangered Species Division, Office of Protected Resources, National Marine Fisheries Service.

[FR Doc. 05-928 Filed 1-14-05; 8:45 am]

BILLING CODE 3510-22-S